DEPARTMENT OF AGRICULTURE

Agricultural Marketing Service

[Doc. No. AMS-FV-10-0097]

Notice of Funds Availability (NOFA) Inviting Applications for the Specialty Crop Block Grant Program-Farm Bill (SCBGP-FB)

AGENCY: Agricultural Marketing Service, USDA.

ACTION: Notice.

SUMMARY: The Agricultural Marketing Service (AMS) announces the availability of approximately $55 million in grant funds, less USDA administrative costs, for fiscal year (FY) 2011 to solely enhance the competitiveness of specialty crops. SCBGP-FB funds are authorized by the Food, Conservation, and Energy Act of 2008 (the Farm Bill). State departments of agriculture are encouraged to develop their grant applications promptly. State departments of agriculture interested in obtaining grant program funds are invited to submit applications to USDA. State departments of agriculture, meaning agencies, commissions, or departments of a State government responsible for agriculture within the 50 States, the District of Columbia, the Commonwealth of Puerto Rico, Guam, American Samoa, the U.S. Virgin Islands, and the Commonwealth of the Northern Mariana Islands are eligible to apply.

DATES: Applications must be received by July 13, 2011.

FOR FURTHER INFORMATION CONTACT: Trista Etzig, Phone: (202) 690-4942, e-mail: trista.etzig@usda.gov or your State department of agriculture listed on the SCBGP and SCBGP-FB Web site at http://www.ams.usda.gov/fv/.

SUPPLEMENTARY INFORMATION: SCBGP-FB is authorized under section 101 of the Specialty Crops Competitiveness Act of 2004 (7 U.S.C. 1621 note) and amended under section 10109 of the Food, Conservation, and Energy Act of 2008, Public Law 110-246 (the Farm Bill). SCBGP-FB is currently implemented under 7 CFR part 1291 (published March 27, 2009; 74 FR 13313).

The SCBGP-FB assists State departments of agriculture in solely enhancing the competitiveness of U.S. specialty crops. Specialty crops are defined as fruits and vegetables, dried fruit, tree nuts, horticulture, nursery crops (including floriculture).

AMS encourages states to develop projects solely to enhance the competitiveness of specialty crops pertaining to the following issues affecting the specialty crop industry: Increasing child and adult nutrition knowledge and consumption of specialty crops; improving efficiency and reducing costs of distribution systems; assisting all entities in the specialty crop distribution chain in developing “Good Agricultural Practices”, “Good Handling Practices”, “Good Manufacturing Practices”, and in cost-share arrangements for funding audits of such systems for small farmers, packers and processors; investing in specialty crop research, including research to focus on conservation and environmental outcomes; enhancing food safety; developing new and improved seed varieties and specialty crops; pest and disease control; and development of organic and sustainable production practices.

States may wish to consider submitting grants that increase the competitiveness of specialty crop farmers, including Native American and disadvantaged farmers. Increasing competitiveness may include developing local and regional food systems, and improving food access in underserved communities.

Projects that support biobased products and bioenergy and energy programs, including biofuels and other alternative uses for agricultural and forestry commodities (development of biobased products) should see the USDA energy Web site at: http://www.energymatrix.usda.gov/ for information on how to submit those projects for consideration to the energy programs supported by USDA. Also, agricultural cooperatives, producer networks, producer associations, local governments, nonprofit corporations, public health corporations, economic development corporations, regional farmers' market authorities and Tribal governments that are interested in submitting projects that support farmers' markets that do not solely enhance the competitiveness of eligible specialty crops should visit the Farmers' Market Promotion Program (FMPP) Web site at: http://www.ams.usda.gov/fmpp for information on how to submit those projects for consideration to FMPP.

Each interested State department of agriculture must submit an application for SCBGP-FB grant funds anytime between January 4, 2011 and on or before July 13, 2011, through http://www.grants.gov. AMS will work with each State department of agriculture and provide assistance as necessary.

Other organizations interested in participating in this program should contact their local State department of agriculture. State departments of agriculture specifically named under the authorizing legislation should assume the lead role in SCBGP-FB projects, and use cooperative or contractual linkages with other agencies, universities, institutions, and producer, industry or community-based organizations as appropriate.

Additional details about the SCBGP-FB application process for all applicants are available at the SCBGP-FB Web site: http://www.ams.usda.gov/fv/.

To be eligible for a grant, each State department of agriculture's application shall be clear and succinct and include the following documentation satisfactory to AMS:

(a) One SF-424 “Application for Federal Assistance”.

(b) SF-424A “Budget Information—Non-Construction Programs” showing the budget for each project.

(c) One SF-424B “Assurances—Non-Construction Program”

(d) Completed applications must also include one State plan to show how grant funds will be utilized to solely enhance the competitiveness of specialty crops. The State plan shall include the following:

(1) Cover page and granting processes. Include the point of contact and lead agency for administering the plan. Include the steps taken to conduct outreach to specialty crop stakeholders to receive and consider public comment to identify state funding priorities needs, including any focus on multi-state projects in enhancing the competitiveness of specialty crops. Provide the identified funding priority areas. Describe the methods used to identify socially disadvantaged and beginning farmers and reach out to these groups about the Specialty Crop Block Grant Program (SCBGP). Identify by project title if an award was made to either a socially disadvantaged farmer or a beginning farmer. If steps were not taken to conduct outreach to socially disadvantaged and beginning farmers, provide a justification for why not. Provide a description of the affirmative steps taken to conduct a competitive grant process. Describe the methods used to solicit proposals that met identified specialty crop funding priority needs. Include the number of grant proposals that were received. Describe how members on the review panel were selected to ensure they were free from conflicts of interest and consisted of a community of experts in given field, who were qualified and able to perform impartial reviews. Identify what fields the review panel members were from. State if the review results of the peer review panel were given to the grant applicants ensuring the confidentiality of the review panel members. If a competitive grant process was not used, provide a justification why not. Provide a description of the State department of agriculture oversight including how and when administration of grant funds will be performed to ensure proper and efficient administration for each project.

(2) Project title, partner organization name, abstract. Include the title of the project, the partner organization's name that plans to oversee the project, and an abstract of 200 or fewer words for each project.

(3) Project purpose. For each project, clearly state the purpose of the project. Describe the specific issue, problem, interest, or need to be addressed. Explain why the project is important and timely and the objectives of the project. If the project has the potential to enhance the competiveness of non-specialty crops, explain how all funding will be used to solely enhance the competiveness of eligible specialty crops as defined in 7 CFR 1291.2(n). If a project builds on a previous SCBGP or SCBGP-FB project, indicate clearly how the new project compliments previous work. For each project, indicate if the project will be or has been submitted to or funded by another Federal or State grant program.

(4) Potential impact. Discuss the intended beneficiaries of each project, the number of people or operations affected, how the beneficiaries are impacted by the project, and/or potential economic impact if such data are available and relevant to the project.

(5) Expected Measurable Outcomes. For each project, describe at least one distinct, quantifiable, and measurable outcome-oriented objective that directly and meaningfully supports the project's purpose. The measurable outcome-oriented objective must define an event or condition that is external to the project and that is of direct importance to the intended beneficiaries and/or the public. Outcome measures may be long term that exceed the grant period. Describe how performance toward meeting outcomes will be monitored. For each project, include a performance-monitoring plan to describe the process of collecting and analyzing data to meet the outcome-oriented objectives.

(6) Work Plan. For each project, explain briefly the activities that will be performed to accomplish the objectives of the project. Be clear about who will do the work and when each activity will be accomplished.

(7) Budget Narrative. Provide in sufficient detail information about the budget categories listed on SF-424A for each project to demonstrate that grant funds are being expended on eligible grant activities that meet the purpose of the program. Indirect costs for this grant period should not exceed 10 percent of any proposed budget. Provide a justification if administrative costs are higher than 10 percent.

(8) Project Oversight. Describe who will oversee the project activities and how and when oversight will be performed to ensure proper and efficient administration for each project.

(9) Project Commitment. Describe briefly who supports the project and how all grant partners commit to and work toward the goals and outcomes of each proposed project(s).

(10) Multi-state Projects. If the project is a multi-state project, describe how the states are going to collaborate effectively with related projects with one state assuming the coordinating role. Indicate the percent of the budget covered by each state.

Each State department of agriculture that submits an application that is reviewed and approved by AMS is to receive an estimated base grant of approximately $180,641.84 to solely enhance the competitiveness of specialty crops. In addition, AMS will allocate the remainder of the grant funds based on the proportion of the value of specialty crop production in the state in relation to the national value of specialty crop production using the latest available (2009 National Agricultural Statistics Service (NASS) cash receipt data for the 50 States and the Commonwealth of Puerto Rico, 2007 Census of Agriculture cash receipts for Guam, the U.S. Virgin Islands, and the Commonwealth of the Northern Mariana Islands, and 2002 Census of Agriculture cash receipts for American Samoa) specialty crop production data in all states whose applications are accepted.

The amount of the base grant plus value of production available to each State department of agriculture is estimated to be:

(1) Alabama | $436,445.27
(2) Alaska | 196,012.59
(3) American Samoa | 217,248.32
(4) Arizona | 1,165,007.20
(5) Arkansas | 253,975.67
(6) California | 18,555,141.57
(7) Colorado | 708,202.26
(8) Connecticut | 427,804.09
(9) Delaware | 241,404.22
(10) District of Columbia | 180,641.84
(11) Florida | 4,356,879.16
(12) Georgia | 1,128,030.40
(13) Guam | 182,517.28
(14) Hawaii | 390,148.26
(15) Idaho | 1,009,969.35
(16) Illinois | 646,616.10
(17) Indiana | 406,379.74
(18) Iowa | 275,420.04
(19) Kansas | 272,909.44
(20) Kentucky | 262,881.70
(21) Louisiana | 339,673.85
(22) Maine | 396,814.69
(23) Maryland | 418,057.35
(24) Massachusetts | 449,166.08
(25) Michigan | 1,344,036.96
(26) Minnesota | 734,570.04
(27) Mississippi | 268,205.45
(28) Missouri | 352,120.57
(29) Montana | 295,460.91
(30) Nebraska | 344,633.44
(31) Nevada | 264,288.27
(32) New Hampshire | 248,992.97
(33) New Jersey | 787,690.55
(34) New Mexico | 456,218.99
(35) New York | 1,053,738.07
(36) North Carolina | 1,199,444.91
(37) North Dakota | 638,376.03
(38) Northern Mariana Islands | 182,066.13
(39) Ohio | 699,327.80
(40) Oklahoma | 379,047.29
(41) Oregon | 1,713,260.58
(42) Pennsylvania | 1,037,071.60
(43) Puerto Rico | 373,756.64
(44) Rhode Island | 220,272.43
(45) South Carolina | 508,114.61
(46) South Dakota | 208,224.50
(47) Tennessee | 518,708.23
(48) Texas | 1,727,351.78
(49) Utah | 310,363.56
(50) Vermont | 229,597.27
(51) Virgin Islands | 181,819.76
(52) Virginia | 519,296.42
(53) Washington | 3,090,179.37
(54) West Virginia | 213,703.00
(55) Wisconsin | 971,231.83
(56) Wyoming | 204,035.56

Funds not obligated will be allocated pro rata to the remaining States which applied during the specified grant application period to be solely expended on projects previously approved in their State plan. AMS will notify the States as to the procedures for applying for the reallocated funds.

AMS requires applicants to submit SCBGP-FB applications electronically through the central Federal grants Web site, http://www.grants.gov instead of mailing hard copy documents. Original signatures are not needed on the SF-424 and SF-424B when applying through http://www.grants.gov and applicants are not required to submit any paper documents to AMS. Applicants are strongly urged to familiarize themselves with the Federal grants Web site and begin the application process well before the application deadline. For information on how to apply electronically, please consult http://www.grants.gov/applicants/get_registered.jsp. AMS will send an email confirmation when applications are received by the AMS office.

SCBGP-FB is listed in the “Catalog of Federal Domestic Assistance” under number 10.170 and subject agencies must adhere to Title VI of the Civil Rights Act of 1964, which bars discrimination in all federally assisted programs.

Authority: 7 U.S.C. 1621 note.

Dated: December 22, 2010.
David R. Shipman,
Associate Administrator, Agricultural Marketing Service.

[FR Doc. 2010-33136 Filed 1-3-11; 8:45 am]

BILLING CODE 3410-02-P